DEPARTMENT OF HOMELAND SECURITY

Coast Guard

[Docket No. USCG-2017-0495]

Merchant Marine Personnel Advisory Committee

AGENCY: Department of Homeland Security, Coast Guard.

ACTION: Notice of Federal Advisory Committee Teleconference meeting.

SUMMARY: The Merchant Marine Personnel Advisory Committee working group will meet via teleconference to work on Task Statement 96, review and comment on course and program approval requirements and NVIC 03-14 guidelines for approval of training courses and programs, to complete the discussions from its March 22-23 and May 16, 2017 meetings. The teleconference will be open to the public.

DATES: The Merchant Marine Personnel Advisory Committee working group is scheduled to meet via teleconference on Tuesday, July 25, 2017, from 8 a.m. until 5 p.m. and on Wednesday, July 26, 2017, from 8 a.m. until 5 p.m. Eastern Standard Time. Please note that this teleconference may adjourn early if the working group has completed its business.

ADDRESSES: To join the teleconference, contact the individual listed in the FOR FURTHER INFORMATION CONTACT section to obtain the needed information no later than 5 p.m. on July 17, 2017. The number of teleconference lines is limited and will be available on a first-come, first served basis. To physically join those participating from the U.S. Coast Guard National Maritime Center, it will be held at 100 Forbes Drive, Martinsburg, WV 25404-0001 (https://www.uscg.mil/nmc/).

Pre-registration Information: Foreign nationals participating physically at the U.S. Coast Guard National Maritime Center will be required to pre-register no later than 4 p.m. on July 01, 2017. U.S. citizens participating physically at the U.S. Coast Guard National Maritime Center will be required to pre-register no later than 4 p.m. on July 17, 2017, to be admitted to the meeting. To pre-register, contact Lieutenant Junior Grade James Fortin at 202-372-1128 or james.l.fortin@uscg.mil with MERPAC in the subject line and provide your name, company, and telephone number; if a foreign national, also provide your country of citizenship, and passport number and expiration date. All attendees will be required to provide a government-issued picture identification card in order to gain admittance to the building.

For information on facilities or services for individuals with disabilities or to request special assistance at the meeting, contact the Alternate Designated Federal Officer as soon as possible using the contact information provided in the FOR FURTHER INFORMATION CONTACT section of this notice.

Instructions: You are free to submit comments at any time, including orally at the teleconference, but if you want working group committee members to review your comment before the meetings, please submit your comments no later than July 17, 2017. We are particularly interested in comments on the issues in the “Agenda” section below. You must include “Department of Homeland Security” and the docket number USCG-2017-0495 in your comment submission. Written comments may also be submitted using Federal eRulemaking Portal at http://www.regulations.gov. If you encounter technical difficulties with comments submission, contact the individual listed in the FOR FURTHER INFORMATION CONTACT section of this document. Comments received will be posted without alteration at http://www.regulations.gov, including any personal information provided. You may review the Privacy Act Notice regarding the Federal Docket Management System in the March 24, 2005, issue of the Federal Register (70 FR 15086).

Docket Search: For access to the docket to read documents or comments related to this notice, go to http://www.regulations.gov, type USCG-2017-0495 in the “Search” box, press Enter, and then click on the item you wish to view.

FOR FURTHER INFORMATION CONTACT: Lieutenant Junior Grade James Fortin, Alternate Designated Federal Officer of the Merchant Marine Personnel Advisory Committee, 2703 Martin Luther King Jr. Ave SE., Stop 7509, Washington, DC 20593-7509, telephone 202-372-1128, fax 202-372-8385 or james.l.fortin@uscg.mil.

SUPPLEMENTARY INFORMATION: The Merchant Marine Personnel Advisory Committee was established under authority of section 310 of the Howard Coble Coast Guard and Maritime Transportation Act of 2014, Title 46, United States Code, section 8108, and chartered under the provisions of the Federal Advisory Committee Act, (Title 5, United States Code, Appendix). The Committee acts solely in an advisory capacity to the Secretary of the Department of Homeland Security through the Commandant of the Coast Guard on matters relating to personnel in the United States merchant marine, including training, qualifications, certification, documentation, and fitness standards and other matters as assigned by the Commandant. The Committee shall also review and comment on proposed Coast Guard regulations and policies relating to personnel in the United States merchant marine, including training, qualifications, certification, documentation, and fitness standards; may be given special assignments by the Secretary and may conduct studies, inquiries, workshops, and fact finding in consultation with individuals and groups in the private sector and with State or local governments; and shall advise, consult with, and make recommendations reflecting its independent judgment to the Secretary.

Agenda

DAY 1

The agenda for the July 25, 2017, working group teleconference is as follows:

(1) The working group will meet briefly to discuss Task Statement 96 (All task statements can be found at https://homeport.uscg.mil/merpac);

(2) Reports of working sub-groups. At the end of the day, the working sub-groups will report to the full working group on what was accomplished in their meetings. The full working group will not take action as a result of this working group meeting; action will be taken on day 2 of the meeting.

(3) Public comment period.

(4) Adjournment of meeting.

DAY 2

The agenda for the July 26, 2017, working group teleconference is as follows:

(1) The working group will meet briefly to discuss Task Statement 96 (All task statements can be found at https://homeport.uscg.mil/merpac);

(2) Reports of working sub-groups. The working sub-groups will report to the full working group on what was accomplished in their meetings. The full working group will not take action on these reports at this time. Any action taken as a result of this working group meeting will be taken after the public comment period.

(3) Public comment period.

(4) Preparation of the meeting report to the full Committee.

(5) Adjournment of meeting.

A copy of all meeting documentation will be available at https://homeport.uscg.mil/merpac/. Alternatively, you may contact Lieutenant Junior Grade James Fortin as noted in the FOR FURTHER INFORMATION CONTACT section above.

A public comment period will be held during each day during the working group teleconference concerning matters being discussed. Speakers are requested to limit their comments to 3 minutes. Please note that the public comment periods will end following the last call for comments. Please contact Lieutenant Junior Grade James Fortin, listed in the FOR FURTHER INFORMATION CONTACT section, to register as a speaker.

Please note that the teleconference may adjourn early if the work is completed.

Dated: June 20, 2017.
J.G. Lantz,
Director of Commercial Regulations and Standards.

[FR Doc. 2017-13258 Filed 6-23-17; 8:45 am]

BILLING CODE 9110-04-P